DEPARTMENT OF HEALTH AND HUMAN SERVICES

[Document Identifier: OS-0990-New]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above email address within 60-days.

Proposed Project: Training Ph.D.s: Faculty Views on Their Role and Their Institution's Role to Promote the Development of Responsible Researchers—OMB No. 0990-New—Office of Research Integrity.

Abstract: Preventing research misconduct and abuse is of paramount importance. The Institute of Medicine (IOM) has issued two reports in the last 10 years addressing this concern and clearly states that mentoring is a key factor in promoting the development of responsible researchers. However, little is actually known about the qualities and activities of effective mentors. The proposed project will focus on collecting descriptive information from faculty about their role as advisor and mentor and how faculty members perform these roles in their daily work with PhD candidates. In addition faculty members will be asked to describe how involved their institution is in promoting training or otherwise supporting research mentoring and advising.

The data will come from a random selection of 10,000 investigators drawn from the 2005 and 2006 National Institutes of Health or National Science Foundation grant recipients who have supervised doctoral students in the last five years and are faculty in two types of institutions: (1) Medical schools (within universities or stand alone) and (2) all other universities. We are requesting clearance for a one-time web based survey which will be conduced over one year.

Respondents and Burden Estimates for the Training Ph.D.S Survey

Estimated Annualized Burden Table
Forms | Type of respondent | Number of respondents | Number of responses per respondent | Average burden hours per response (in hours) | Total burden hours
Faculty Survey Instrument | Faculty who advise a PhD candidate | 4,620 | 1 | 20/60 | 1,540

Mary Oliver-Anderson,
Office of the Secretary, Paperwork Reduction Act Reports Clearance Officer.

[FR Doc. E7-24055 Filed 12-11-07; 8:45 am]

BILLING CODE 4150-31-P